ENVIRONMENTAL PROTECTION AGENCY

[ER-FRL-9014-5]

Environmental Impact Statements; Notice of Availability

Responsible Agency: Office of Federal Activities, General Information (202) 564-7146 or http://www.epa.gov/compliance/nepa/.

Weekly receipt of Environmental Impact Statements

Filed 04/07/2014 through 04/11/2014

Pursuant to 40 CFR 1506.9.

Notice

Section 309(a) of the Clean Air Act requires that EPA make public its comments on EISs issued by other Federal gencies. EPA's comment letters on EISs are available at: http://www.epa.gov/compliance/nepa/eisdata.html.

EIS No. 20140113, Draft EIS, USFWS, MA, Monomoy National Wildlife Refuge Draft Comprehensive Conservation Plan, Comment Period Ends: 06/09/2014, Contact: Libby Herland 978-443-4661.

EIS No. 20140114, Draft EIS, BLM, CA, Tylerhorse Wind Project Draft Plan Amendment, Comment Period Ends: 07/17/2014, Contact: Cedric Perry 951-697-5388.

EIS No. 20140115, Draft EIS, USACE, TX, Dallas Floodway Project, Comment Period Ends: 06/02/2014, Contact: Marcia Hackett 817-886-1373.

EIS No. 20140116, Draft EIS, USACE, PA, Upper Ohio Navigation Study, Comment Period Ends: 06/02/2014, Contact: Conrad Weiser 412-395-7220.

EIS No. 20140117, Final EIS, BIA, CA, Cloverdale Rancheria of Pomo Indians Fee-To-Trust and Resort Casino Project, Review Period Ends: 05/19/2014, Contact: John Rydzik 916-978-6051.

EIS No. 20140118, Draft Supplement, USN, GU, Guam and Commonwealth of the Northern Mariana Islands Military Relocation (2012 Roadmap Adjustments), Comment Period Ends: 06/16/2014, Contact: CDR Curtis Duncan 703-602-3825.

EIS No. 20140119, Final EIS, USCG, FL, Proposed New Bridge across the Manatee River, Review Period Ends: 05/19/2014, Contact: Randall Overton 305-415-6736.

EIS No. 20140120, Draft EIS, USACE, CA, Delta Islands and Levees Feasibility Study, Comment Period Ends: 06/02/2014, Contact: Brad Johnson 916-557-7812.

EIS No. 20140121, Draft EIS, DOE, HI, PROGRAMMATIC—Hawaii Clean Energy, Comment Period Ends: 07/17/2014, Contact: Dr. Jane Summerson 505-845-4091.

EIS No. 20140122, Draft EIS, USFS, MT, Greater Red Lodge Area Vegetation and Habitat Management Project, Comment Period Ends: 06/02/2014, Contact: Amy Waring 406-255-1451.

EIS No. 20140123, Final EIS, BIA, CA, Los Coyotes Band of Cahuilla and Cupeno Indians Fee-To-Trust and Casino-Hotel Project, Review Period Ends: 05/19/2014, Contact: John Rydzik 916-978-6051.

EIS No. 20140124, Final EIS, USACE, CA, Westbrook Project, Review Period Ends: 05/19/2014, Contact: Kathy Norton 916-557-5260.

Amended Notices

EIS No. 20140069, Draft EIS, USFS, MT, Divide Travel Plan, Helena National Forest, Comment Period Ends: 06/12/2014, Contact: Heather DeGeest 406-449-5201.

Revision to the FR Notice Published 03/14/2014; Extending Comment Period from 04/28/2014 to 06/12/2014.

Dated: April 15, 2014.
Cliff Rader,
Director, NEPA Compliance Division, Office of Federal Activities.

[FR Doc. 2014-08890 Filed 4-17-14; 8:45 am]

BILLING CODE 6560-50-P